DEPARTMENT OF STATE

[Public Notice: 11699]

Notice of Shipping Coordinating Committee Meeting in Preparation for International Maritime Organization MEPC 78 Meeting

The Department of State will conduct a public meeting of the Shipping Coordinating Committee at 10:00 a.m. on Wednesday, May 25, 2022, by way of teleconference. The primary purpose of the meeting is to prepare for the seventy-eighth session of the International Maritime Organization's (IMO) Marine Environment Protection Committee (MEPC 78) to be held virtually from Monday, June 6, 2022 to Friday June 10, 2022.

Members of the public may participate up to the capacity of the teleconference phone line, which can handle 500 participants. To RSVP, participants should contact the meeting coordinator, LCDR Jessica Anderson, by email at jessica.p.anderson@uscg.mil. To access the teleconference line, participants should call (202) 475-4000 and use Participant Code: 877 239 87#.

The agenda items to be considered by the advisory committee at this meeting mirror those to be considered at MEPC 78, and include:

—Adoption of the agenda

—Decisions of other IMO bodies

—Consideration and adoption of amendments to mandatory instruments

—Harmful aquatic organisms in ballast water

—Air pollution prevention

—Energy efficiency of ships

—Reduction of GHG emissions from ships

—Follow-up work emanating from the Action Plan to address marine plastic litter from ships

—Pollution prevention and response

—Reports of other sub-committees

—Identification and protection of Special Areas, ECAs and PSSAs

—Technical cooperation activities for the protection of the marine environment

—Application of the Committee's method of work

—Work programme of the Committee and subsidiary bodies

—Any other business

—Consideration of the report of the Committee

Please note: the IMO may, on short notice, adjust the MEPC 78 agenda to accommodate the constraints associated with the virtual meeting format. Any changes to the agenda will be reported to those who RSVP.

Those who plan to participate may contact the meeting coordinator, LCDR Jessica Anderson, by email at Jessica.P.Anderson@uscg.mil, or in writing at 2703 Martin Luther King Jr. Ave. SE, Stop 7509, Washington, DC 20593-7509. Members of the public needing reasonable accommodation should advise LCDR Jessica Anderson not later than May 18, 2022. Requests made after that date will be considered, but might not be possible to fulfill.

Additional information regarding this and other IMO public meetings may be found at: https://www.dco.uscg.mil/IMO.

(Authority: 22 U.S.C. 2656 and 5 U.S.C. 552)

Emily A. Rose,
Executive Secretary, Shipping Coordinating Committee, Office of Ocean and Polar Affairs, Department of State.

[FR Doc. 2022-06928 Filed 3-31-22; 8:45 am]

BILLING CODE 4710-09-P